DEPARTMENT OF TRANSPORTATION

Office of the Secretary

Privacy Act of 1974: Systems of Records

AGENCY: Maritime Administration (MARAD), DOT.

ACTION: Notice to establish systems of records.

SUMMARY: DOT intends to establish systems of records under the Privacy Act of 1974.

DATES: Effective Date: October 27, 2009. If no comments are received, the proposal will become effective on the above date. If comments are received, the comments will be considered and, where adopted, the documents will be republished with changes.

ADDRESSES: Send comments to: Habib Azarsina, Departmental Privacy Officer, S-80, United States Department of Transportation, Office of the Secretary of Transportation, 1200 New Jersey Ave., SE., Washington, DC 20590, or habib.azarsina@dot.gov.

FOR FURTHER INFORMATION CONTACT: Habib Azarsina, Departmental Privacy Officer, S-80, United States Department of Transportation, Office of the Secretary of Transportation, 1200 New Jersey Ave., SE., Washington, DC 20590, telephone 202-366-1965 or habib.azarsina@dot.gov.

SUPPLEMENTARY INFORMATION: The Department of Transportation system of records notice subject to the Privacy Act of 1974 (5 U.S.C. 552a), as amended, has been published in the Federal Register and is available from the above mentioned address.

System Number:

DOT/MARAD 31

SYSTEM NAME:

Mariner Outreach System (MOS).

SECURITY CLASSIFICATION:

Unclassified, Sensitive.

SYSTEM LOCATION:

NCCIPS Data Center Loading Dock, Cypress Loop Road, Building 9323, Stennis Space Center, MS 39529.

CATEGORIES OF INDIVIDUALS COVERED BY THE SYSTEM OF RECORDS:

The Mariner Outreach System (MOS) contains information about U.S. Coast Guard (USCG) mariners. MOS provides a systematic way to monitor the adequacy of our nation's merchant mariner pool and to track and maintain contact information and qualifications of mariners. Therefore, there is the potential for the following categories of individual's information to be covered by this system:

• Data about mariners who hold or previously held a USCG credential.

CATEGORIES OF RECORDS IN THE SYSTEM:

MOS contains the following types of information:

• Information from the Merchant Mariner License and Documentation (MMLD) including personal data such as last 4 digits of SSN, date of birth (DOB), place of birth (POB).

• Mariners updated contact information, e.g., address, e-mail(s), and phone number(s).

AUTHORITY FOR MAINTENANCE OF THE SYSTEM:

National Security Directive #28 (October 5, 1989), Merchant Marine Act of 1936; Maritime Security Act of 2003 (Pub. L. 108-136).

PURPOSES:

MOS is an invaluable tool for MARAD and its partners to make valid vessel and human resources projections; identify potential mariner shortfalls; allow mariners to provide up-to-date/accurate contact information; and to facilitate crewing of vessels should a mariner shortage occur.

ROUTINE USES OF RECORDS MAINTAINED IN THE SYSTEM, INCLUDING CATEGORIES OF USERS AND THE PURPOSES OF SUCH USES:

The Office of Maritime Workforce Development's routine use of information is for resource projection, maintain contact information and facilitate filling shortages. The merchant mariners who hold or previously held a USCG credential can self-register and update his/her own contact information after registration.

DISCLOSURE TO CONSUMER REPORTING AGENCIES:

None.

POLICIES AND PRACTICES FOR STORING, RETRIEVING, ACCESSING, RETAINING, AND DISPOSING OF RECORDS IN THE SYSTEM:

STORAGE:

Data is stored in this system on a dedicated server.

RETRIEVABILITY:

Registered mariners can only view their own personal records by user ID, obtained from initial self-registration, and password.

Authorized administrator at Maritime Workforce Development can retrieve data for analysis, resource protection, and facilitation of crewing of vessels, as necessary, by last name, first name and last 4-digits of social security number.

SAFEGUARDS:

The production environment is located in a secure zone behind a firewall, called a Demilitarized Zone (DMZ) that enables secure connections from the Internet.

DOT Crisis and Security Management Center (CSMC) monitors all traffic within the department looking for any possible attacks. CSMC works with the modes during possible attacks. MARAD has Cisco ASA devices to monitor events on the system, detect attacks, and provide identification of unauthorized use of the system.

The Stennis Data Center in Mississippi hosting MOS is occupied by the Department of Navy contractor personnel and is not open to the general public. The Data Center is uniquely constructed. It was formerly an ammunition manufacturing facility and as such, its external walls are constructed completely of steel reinforced concrete that is 12 to 48 inches thick. It has no windows. The construction materials as well as its location inside of the Stennis Space Center significantly reduce its vulnerability to most conventional types of external threats i.e. vehicle born improvised explosive devices (VBIEDs), burglary, trespassing, and unauthorized entry.

The facility operates in a secure closed manner. Outside personnel do not have unescorted access to the facility. Mail deliveries are received by facility personnel who screen all material before being brought into the facility. All equipment is delivered and sent through a secure loading dock. All equipment is installed either by or under the supervision of facility personnel.

The test and development environments are available only to local personnel and selected users connecting via a Virtual Private Network.

System data is protected by daily backups to Linear Tape Open (LTO3) tape. In addition, daily backups of data to a local server hard drive, which are kept for a period of 14 days to safeguard the data.

RETENTION AND DISPOSAL:

The files are retained and disposed of according to the MARAD Records Schedule, according to the National Archives and Records Administration, and DOT policy.

SYSTEM OWNER(S) AND ADDRESS:

Director, Office of Maritime Workforce Development, Maritime Administration, 1200 New Jersey Ave., SE., Washington, DC 20590. 202-366-5469.

NOTIFICATION PROCEDURE:

Individuals wishing to know if their records appear in this system may make a request in writing to the FOIA/Privacy Act Officer, Maritime Administration, 1200 New Jersey Ave, SE., W26-499, Washington, DC 20590. The request must include the requester's name, mailing address, telephone number and/or e-mail address, a description and, if possible, the location of the records requested, and verification of identity (such as, a statement under penalty or perjury that the requester is the individual who he or she claims to be).

RECORD ACCESS PROCEDURES:

Individuals seeking access to information about them in this system should apply to the FOIA/Privacy Act Officer, following the same procedure as indicated under “Notification procedure.” Mariners can log into the system to view their documents.

CONTESTING RECORD PROCEDURES:

Individuals seeking to contest the content of information about them in this system should apply to the FOIA/Privacy Act Officer, following the same procedure as indicated under “Notification procedure.”

RECORD SOURCE CATEGORIES:

Information in MOS is obtained from U.S. Coast Guard (USCG) and registered merchant mariners.

The data from USCG include: (a) MMLD data which contain credentials information, e.g., merchant mariners credentials (MMC), merchant mariners document (MMD), merchant mariners' standards, training certification, and watch keeping (STCW), merchant mariners' license, certificate of registry (COR); (b) Personal info: Name (e.g., first name, middle name, last name, e-mail addresses, resident address, citizenship, personal contact information); (c) merchant mariners' sea service records.

Registered merchant mariners data source: During self-registration, the merchant mariner enters into MOS his/her last 4 digits of SSN, first name, last name, place of birth, date of birth, and the password of his/her choice. A registered mariner can use the user id and password to update his/her own information later on.

EXEMPTIONS CLAIMED FOR THE SYSTEM:

None.

System Number:

DOT/MARAD 32

SYSTEM NAME:

Maritime Service Compliance System (MSCS).

SECURITY CLASSIFICATION:

Unclassified, Sensitive.

SYSTEM LOCATION:

NCCIPS Data Center Loading Dock, Cypress Loop Road, Building 9323, Stennis Space Center, MS 39529.

CATEGORIES OF INDIVIDUALS COVERED BY THE SYSTEM OF RECORDS:

The following categories of individuals are covered by this system:

• Current and former students of the U.S. Merchant Marine Academy (USMMA) at Kings Point, NY.

• Current and former students enrolled in the Student Incentive Payment (SIP) program at the six (6) State Maritime Academies (SMAs).

CATEGORIES OF RECORDS IN THE SYSTEM:

MSCS contains the following types of information:

• Current SMA SIP and USMMA students' name, address, SSN, date of birth (DOB) and graduation date.

• Former SMA SIP and USMMA students' name, address, SSN, DOB.

• Data to determine former student compliance with obligation requirements.

• Data to determine SIP funding provided to SMA (SIP) cadets.

• Data to determine if a graduate from the SMA or the USMMA has received a deferment or waiver from MARAD of their service obligation.

AUTHORITY FOR MAINTENANCE OF THE SYSTEM:

Merchant Marine Act of 1936; Maritime Security Act of 2003 (Pub. L. 108-136).

PURPOSES:

MSCS provides an online method for students and graduates of the maritime academies to report their compliance with post-graduation national service obligation requirements. The system also assists MARAD in monitoring and documenting student's enrollment status while attending the maritime academies, making subsidy payments to SMA SIP students, and maintaining a record of the maritime academy graduates fulfillment of their service obligations. The MSCS also contains the graduate's employment determination waivers, and graduate school deferments.

ROUTINE USES OF RECORDS MAINTAINED IN THE SYSTEM, INCLUDING CATEGORIES OF USERS AND THE PURPOSES OF SUCH USES:

MSCS is used by current students and graduates to report their compliance with service obligation requirements. MSCS is used by the Office of Maritime Workforce Development at MARAD to monitor student's enrollment status. MSCS is used by the USMMA to enter service obligation information on the USMMA graduates.

DISCLOSURE TO CONSUMER REPORTING AGENCIES:

None.

POLICIES AND PRACTICES FOR STORING, RETRIEVING, ACCESSING, RETAINING, AND DISPOSING OF RECORDS IN THE SYSTEM:

STORAGE:

Data is stored in this system on a dedicated server.

RETRIEVABILITY:

Records are retrievable by name or social security number.

ACCESSIBILITY/SAFEGUARDS:

The production environment is located in a secure zone behind a firewall, called a Demilitarized Zone (DMZ) that enables secure connections from the Internet.

DOT Crisis and Security Management Center (CSMC) monitors all traffic within the department looking for any possible attacks. CSMC works with the modes during possible attacks. MARAD has Cisco ASA devices to monitor events on the system, detect attacks, and provide identification of unauthorized use of the system.

The Stennis Data Center in Mississippi hosting MSCS is occupied by the Department of Navy contractor personnel and is not open to the general public. The Data Center is uniquely constructed. It was formerly an ammunition manufacturing facility and as such, its external walls are constructed completely of steel reinforced concrete that is 12 to 48 inches thick. It has no windows. The construction materials as well as its location inside of the Stennis Space Center significantly reduce its vulnerability to most conventional types of external threats i.e. vehicle born improvised explosive devices (VBIEDs), burglary, trespassing, and unauthorized entry.

The facility operates in a secure closed manner. Outside personnel do not have unescorted access to the facility. Mail deliveries are received by facility personnel who screen all material before being brought into the facility. All equipment is delivered and sent through a secure loading dock. All equipment is installed either by or under the supervision of facility personnel. The test and development environments are available only to local personnel and selected users connecting via a Virtual Private Network.

System data is protected by daily backups to Linear Tape Open (LTO3) tape. In addition, daily backups of data to a local server hard drive, which are kept for a period of 14 days to safeguard the data.

RETENTION AND DISPOSAL:

The files are retained and disposed of according to the MARAD Records Schedule, according to the National Archives and Records Administration, and DOT policy.

SYSTEM OWNER(S) AND ADDRESS:

Academies Program Officer, Maritime Administration, U.S. Department of Transportation, 1200 New Jersey Avenue, SE., Washington, DC 20590. 202-366-0284.

NOTIFICATION PROCEDURE:

Individuals wishing to know if their records appear in this system may make a request in writing to the FOIA/Privacy Act Officer, Maritime Administration, 1200 New Jersey Ave., SE., W26-499, Washington, DC 20590. The request must include the requester's name, mailing address, telephone number and/or e-mail address, a description and, if possible, the location of the records requested, and verification of identity (such as, a statement under penalty or perjury that the requester is the individual who he or she claims to be).

RECORD ACCESS PROCEDURES:

Individuals seeking access to information about them in this system should apply to the FOIA/Privacy Act Officer, following the same procedure as indicated under “Notification procedure.” Mariners can log into the system to view their documents.

CONTESTING RECORD PROCEDURES:

Individuals seeking to contest the content of information about them in this system should apply to the FOIA/Privacy Act Officer, following the same procedure as indicated under “Notification procedure.”

RECORD SOURCE CATEGORIES:

Information in MSCS is obtained from the USMMA and the SMA, and both current and former students of the USMMA and current and former students enrolled in the SIP program at the six (6) SMAs.

Information includes students' names (first, middle initial, and last), addresses, SSNs, date of birth, enrollment status while attending the Academies, subsidy payments to SMA SIP students, records of the graduates' fulfillment of service obligations, graduates' employment determination waivers, and graduate school deferments.

EXEMPTIONS CLAIMED FOR THE SYSTEM:

None.

System Number:

DOT/MARAD 33

SYSTEM NAME:

Payroll Labor Distribution System (PLDS).

SECURITY CLASSIFICATION:

Unclassified, Sensitive.

SYSTEM LOCATION:

NCCIPS Data Center Loading Dock, Cypress Loop Road, Building 9323, Stennis Space Center, MS 39529.

CATEGORIES OF INDIVIDUALS COVERED BY THE SYSTEM OF RECORDS:

The Payroll Labor Distribution System is a system, which creates Accounting Transaction files based on Payroll information from IR Labor Cost File and the Reserve Fleet Files. This system has a biweekly processing cycle, which performs by the Federal users in the MARAD office of accounting through a menu processor, the processing programs, and data entry programs.

Therefore, there is the potential for the following categories of individuals' information to be covered by this system:

• Data about MARAD personnel (officials and employees).

CATEGORIES OF RECORDS IN THE SYSTEM:

The input of information into PLDS is not discretionary. Utilizing information from Department of Interior (DOI) Payroll system and the Reserve Fleet files, PLDS performs accounting, reconciliation and cost assignment using data from both sources. PLDS contains the following types of information:

• DOI (Labor Cost File) which includes MARAD personnel's personal information, e.g., SSN, first name, middle name, last name, pay grade and step, salary data.

• Reserve Fleet files contain MARAD personnel's personal information, e.g., SSN, first name, middle name, last name, hours worked during a pay period.

AUTHORITY FOR MAINTENANCE OF THE SYSTEM:

Maritime Domain Awareness (MDA) program and the Maritime Security Act of 2003 (Pub. L. 108-136).

PURPOSES:

The Payroll Labor Distribution System allows for the utilization of payroll information, received from DOI (Labor Cost File), in performing the routine accounting functions for the Maritime Administration (MARAD) officials and employees. These functions include the comparison and reconciliation of data from the Labor Cost Distribution File against data on the Reserve Fleet Files. These functions also include the assignment of costs to project numbers based on information taken from the Reserve Fleet files, and the creation of accounting transactions for input into the Departmental Accounting Financial Information System (Dafis) Accounting System.

ROUTINE USES OF RECORDS MAINTAINED IN THE SYSTEM, INCLUDING CATEGORIES OF USERS AND THE PURPOSES OF SUCH USES:

The routine use of the information is for payroll accounting procedures, including reconciliation with the DOI Payroll system.

DISCLOSURE TO CONSUMER REPORTING AGENCIES:

None.

POLICIES AND PRACTICES FOR STORING, RETRIEVING, ACCESSING, RETAINING, AND DISPOSING OF RECORDS IN THE SYSTEM:

STORAGE:

Data is stored in this system on a dedicated server.

RETRIEVABILITY:

Only authorized staff in the Chief Financial Officer (CFO) office can retrieve records by searching name, SSN and/or project.

ACCESSIBILITY/SAFEGUARDS:

The production environment is located in a secure zone behind a firewall, called a Demilitarized Zone (DMZ) that enables secure connections from the Internet.

DOT Crisis and Security Management Center (CSMC) monitors all traffic within the department looking for any possible attacks. CSMC works with the modes during possible attacks. MARAD has Cisco ASA devices to monitor events on the system, detect attacks, and provide identification of unauthorized use of the system.

The Stennis Data Center in Mississippi hosting PLDS is occupied by the Department of Navy contractor personnel and is not open to the general public. The Data Center is uniquely constructed. It was formerly an ammunition manufacturing facility and as such, its external walls are constructed completely of steel reinforced concrete that is 12 to 48 inches thick. It has no windows. The construction materials as well as its location inside of the Stennis Space Center significantly reduce its vulnerability to most conventional types of external threats i.e. vehicle born improvised explosive devices (VBIEDs), burglary, trespassing, and unauthorized entry.

The facility operates in a secure closed manner. Outside personnel do not have unescorted access to the facility. Mail deliveries are received by facility personnel who screen all material before being brought into the facility. All equipment is delivered and sent through a secure loading dock. All equipment is installed either by or under the supervision of facility personnel.

The test and development environments are available only to local personnel and selected users connecting via a Virtual Private Network.

System data is protected by daily backups to Linear Tape Open (LTO3) tape. In addition, daily backups of data to a local server hard drive, which are kept for a period of 14 days to safeguard the data.

RETENTION AND DISPOSAL:

The files are retained and disposed of according to the MARAD Records Schedule, according to the National Archives and Records Administration, and DOT policy. Currently PLDS records are retained for 12 years. Records older than 12 years will be purged by system owner.

SYSTEM OWNER(S) AND ADDRESS:

John Hoban, Deputy Chief Financial Officer (CFO), Maritime Administration, 1200 New Jersey Ave., SE., Washington, DC 20590. John.Hoban@dot.gov. 202-366-5110.

NOTIFICATION PROCEDURE:

Individuals wishing to know if their records appear in this system may make a request in writing to the FOIA/Privacy Act Officer. (DOT employees may make the request in person or in writing). The request must include the requester's name, mailing address, telephone number and/or e-mail address, a description and, if possible, the location of the records requested, and verification of identity (such as, a statement under penalty or perjury that the requester is the individual who he or she claims to be).

RECORD ACCESS PROCEDURES:

Individuals seeking access to information about them in this system should apply to the FOIA/Privacy Act Officer, following the same procedure as indicated under “Notification procedure.”

CONTESTING RECORD PROCEDURES:

Individuals seeking to contest the content of information about them in this system should apply to the FOIA/Privacy Act Officer, following the same procedure as indicated under “Notification procedure.”

RECORD SOURCE CATEGORIES:

Information in PLDS is obtained from DOI and Reserve Fleet files.

The records retrieved from DOI's Labor Cost File per pay period (via secured ftp) contain personal information such as SSN, name (last, middle, first), pay grade and step, and salary.

The data in Reserve Fleet File include SSN, name (last, middle, first), hours worked during a pay period.

EXEMPTIONS CLAIMED FOR THE SYSTEM:

None.

System Number:

DOT/MARAD 34

SYSTEM NAME:

Personnel Management Information System (PMIS).

SECURITY CLASSIFICATION:

Unclassified, Sensitive.

SYSTEM LOCATION:

NCCIPS Data Center Loading Dock, Cypress Loop Road, Building 9323, Stennis Space Center, MS 39529.

CATEGORIES OF INDIVIDUALS COVERED BY THE SYSTEM OF RECORDS:

The following categories of individuals are covered by PMIS:

1. All active MARAD employees, which include U.S. Merchant Marine Academy (USMMA) Federal employees.

2. All inactive MARAD and USMMA employees, which include retirees.

CATEGORIES OF RECORDS IN THE SYSTEM:

PMIS contains the following types of records:

• Payroll information such as pay grade, salary, awards, thrift savings data (TSP), reduction in force (RIF) Personnel data include SSN, name (first, middle, last), security clearance level, employment status, organization, etc.

• Project labor charges has the labor rate information for each MARAD mission project.

AUTHORITY FOR MAINTENANCE OF THE SYSTEM:

Merchant Marine Act of 1936.

PURPOSES:

PMIS is used for personnel management, which includes name, labor charges, approved project codes. The information is utilized for project management and forecasting labor charges.

ROUTINE USES OF RECORDS MAINTAINED IN THE SYSTEM, INCLUDING CATEGORIES OF USERS AND THE PURPOSES OF SUCH USES:

PMIS provides MARAD managers with timely Personnel Compensation & Benefit (PC&B) information to allow informed decision-making, which can be the cost effects of current and future staffing and the financial position of their organizations. PMIS is also used to generate bi-weekly, monthly, and ad hoc management reports, e.g., a within grade increase (WGI) projection report for the employees' pay increase and budget cost within an organization.

DISCLOSURE TO CONSUMER REPORTING AGENCIES:

None.

POLICIES AND PRACTICES FOR STORING, RETRIEVING, ACCESSING, RETAINING, AND DISPOSING OF RECORDS IN THE SYSTEM:

STORAGE:

Data is stored in this system on a dedicated server.

RETRIEVABILITY:

Records are retrievable by last name, organization code and pay period.

SAFEGUARDS:

The production environment is located in a secure zone behind a firewall, called a Demilitarized Zone (DMZ) that enables secure connections from the Internet.

DOT Crisis and Security Management Center (CSMC) monitors all traffic within the department looking for any possible attacks. CSMC works with the modes during possible attacks. MARAD has Cisco ASA devices to monitor events on the system, detect attacks, and provide identification of unauthorized use of the system.

The Stennis Data Center in Mississippi hosting PMIS is occupied by the Department of Navy contractor personnel and is not open to the general public. The Data Center is uniquely constructed. It was formerly an ammunition manufacturing facility and as such, its external walls are constructed completely of steel reinforced concrete that is 12 to 48 inches thick. It has no windows. The construction materials as well as its location inside of the Stennis Space Center significantly reduces its vulnerability to most conventional types of external threats i.e. vehicle born improvised explosive devices (VBIEDs), burglary, trespassing, and unauthorized entry.

The facility operates in a secure closed manner. Outside personnel do not have unescorted access to the facility. Mail deliveries are received by facility personnel who screen all material before being brought into the facility. All equipment is delivered and sent through a secure loading dock. All equipment is installed either by or under the supervision of facility personnel.

The test and development environments are available only to local personnel and selected users connecting via a Virtual Private Network.

System data is protected by daily backups to Linear Tape Open (LTO3) tape. In addition, daily backups of data to a local server hard drive, which are kept for a period of 14 days to safeguard the data.

RETENTION AND DISPOSAL:

The files are retained and disposed of according to the MARAD Records Schedule, according to the National Archives and Records Administration, and DOT policy. Schedule No. 232 (Dispose of when superseded by master file processing updates.)

SYSTEM OWNER(S) AND ADDRESS:

Deputy Chief Financial Officer (CFO), Maritime Administration, 1200 New Jersey Ave, SE., Washington, DC 20590. 202-366-5110.

NOTIFICATION PROCEDURE:

Individuals wishing to know if their records appear in this system may make a request in writing to the FOIA/Privacy Act Officer, Maritime Administration 1200 New Jersey Ave, SE., W26-499, Washington, DC 20590. The request must include the requester's name, mailing address, telephone number and/or e-mail address, a description and, if possible, the location of the records requested, and verification of identity (such as, a statement under penalty or perjury that the requester is the individual who he or she claims to be).

RECORD ACCESS PROCEDURES:

Individuals seeking access to information about them in this system should apply to the FOIA/Privacy Act Officer, following the same procedure as indicated under “Notification procedure.” Mariners can log into the system to view their documents.

CONTESTING RECORD PROCEDURES:

Individuals seeking to contest the content of information about them in this system should apply to the FOIA/Privacy Act Officer, following the same procedure as indicated under “Notification procedure.”

RECORD SOURCE CATEGORIES:

Information in PMIS is obtained from U.S. Department of Interior (DOI) and DOT/FAA Federal Personnel and Payroll System (FPPS).

The data from DOI includes employees' payroll data such as SSN, name (first, middle, last), hours worked, and salary.

The information from FPPS contains number of employees for each organization, SSN, name (first, middle, last), salary, type of pay plan, and leave balance.

EXEMPTIONS CLAIMED FOR THE SYSTEM:

None.

Dated: September 10, 2009.
Habib Azarsina,
Departmental Privacy Officer.

[FR Doc. E9-22388 Filed 9-16-09; 8:45 am]

BILLING CODE 4910-9X-P